FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 011275-034.

Title: Australia and New Zealand-United States Discussion Agreement.

Parties: ANL Singapore Pte Ltd.; CMA CGM, S.A.; Hamburg-Süd KG; Hapag-Lloyd AG; and Mediterranean Shipping Company S.A.

Filing Party: Wayne R. Rohde, Esq.; Cozen O'Connor LLP; 1627 I Street NW.; Suite 1100; Washington, DC 20006-4007.

Synopsis: The amendment would add A.P. Moller-Maersk AS, trading under the name Maersk Line, as a party to the agreement.

Agreement No.: 012185.

Title: Priority/Marine Express Space Charter, Sailing and Cooperative Working Agreement.

Parties: Priority RoRo Services, LLC and Marine Express, Inc.

Filing Party: Carlos E. Bayron; Bayron Law Offices, P.S.C.; P.O. Box 6461, Mayaguez, PR 00681.

Synopsis: The agreement would authorize the parties to share vessels and charter space to each other in the trade between Puerto Rico and the Dominican Republic.

Agreement No.: 012186.

Title: Crowley/Priority Ro/Ro Space Charter and Sailing Agreement.

Parties: Crowley Latin America Services, LLC and Priority Ro/Ro Services, Inc.

Filing Party: Wayne R. Rohde, Esq.; Cozen O'Connor; 1627 I Street NW., Suite 1100; Washington, DC 20006-4007.

Synopsis: The agreement authorizes Priority to charter space to Crowley in the trade between Puerto Rico and the Dominican Republic for cargo originating in Puerto Rico as well as for cargo being transshipped in Puerto Rico.

By Order of the Federal Maritime Commission.
Dated: November 9, 2012.
Rachel E. Dickon,
Assistant Secretary.

[FR Doc. 2012-27833 Filed 11-14-12; 8:45 am]

BILLING CODE P